DEPARTMENT OF TRANSPORTATION

Federal Transit Administration

Preparation of an Environmental Impact Statement for the East Bay Bus Rapid Transit Project in Berkeley, Oakland, and San Leandro, California

AGENCY: Federal Transit Administration (FTA), Department of Transportation (DOT).

ACTION: Notice of Intent (NOI) to prepare Environmental Impact Statement (EIS).

SUMMARY: The Federal Transit Administration (FTA), in cooperation with the Alameda Contra Costa Transit District (AC Transit), will prepare a joint Environmental Impact Statement/Environmental Impact Report (EIS/EIR) for the East Bay Bus Rapid Transit Project (East Bay BRT), an approximately 18-mile transit improvement through the cities of Berkeley, Oakland, and San Leandro. Project features include: dedicated bus lanes along arterial streets connecting downtown Berkeley, the University of California, downtown Oakland, downtown San Leandro, and the Bayfair shopping mall in San Leandro; light-rail-like stations and low-level boarding platforms; proof-of-payment fare verification; transit priority signal treatments; and modern, high-capacity, low-floor, multi-door buses. The IES/EIR will evaluate the following alternatives: (1) A No-Project Alternative; (2) a Build Alternative with alignment options,hereinafter referred to as the East Bay BRT Alternative; and (3) any additional reasonable alternatives that emerge from the study process. The East Bay BRT Alternative could be constructed in stages. The staging of improvements will be identified during the studies.

Previous studies relevant to this action include the recently completed AC Transit Berkeley/Oakland/San Leandro Corridor Major Investment Study (AC Transit, September 2002) and the Alternative Modes Analysis (AC Transit and DKS Associates, April 1993). EIS/EIR preparation will be initiated through a formal NEPA scoping process, which solicits input on issues and potential project impacts to consider in the environment studies. Scoping will be accomplished through meetings and correspondence with interested persons, organizations, the general public, and federal, state, and local agencies. Letters describing the proposed action and soliciting comments have been sent to the appropriate federal, state, and local agencies, and to private organizations and individuals.

Scoping under NEPA is being complemented by informational meetings conducted under California CEQA (Californa Environmental Quality Act), which guides the preparation and content of the project EIR. AC Transit has conducted four information meetings in the study corridor, at which presentations were given on the environmental process to be undertaken and general features of the proposed project. Local, state and federal agencies and the general public were invited to these meetings, held May 28, June 2, June 4, and June 5, 2003. Comments on issues and impacts to be considered in preparation of the EIS/EIR were obtained and recorded in the project information database.

DATES: Comment Due Date—Written comments on the scope of alternatives and impacts to be considered must be postmarked no later than March 16, 2004 and should be sent to AC Transit at the contact address below.

NEPA Scoping Meeting Date

A public scoping meeting will be held on February 11, 2004, from 6 p.m. to 8 p.m. at the Fruitvale-San Antonio Senior Center, located at 3301 East 12th Street, Suite 201, Oakalnd, CA 94601. The first 30 minutes of the meeting will be an open house and a viewing of exhibits. A brief presentation of the project purpose and alternatives will follow, with meeting participants provided the opportunity to comment on issues of interest. The open house will resume after the presentation and comment period. Project staff will be present to receive formal agency and public input regarding the scope of the environmental studies, key issues, and other suggestions. The meeting room is accessible to persons with disabilities. Any individual with a disability who requires special assistance, such as a sign language interpreter, or any individual who requires English language interpretation should contact Kathy Eichmeier of AC Transit at 510-891-4739 (e-mail) planning@actransit.org at least 48 hours in advance of the meeting in order for AC Transit to make necessary arrangements.

ADDRESSES: The scoping meeting will be held at the locations identified in the NEPA SCOPING MEETING DATE section above. Written comments should be sent to: Jim Cunradi, AC Transit Project Manager, East Bay BRT, Alameda Contra Costa Transit District, 1600 Franklin Street, Oakland, CA 94612. Phone: 510-891-4841 or (e-mail) jcunradi@actransit.org. To be added to the mailing list for the East Bay BRT Project, contact Mr. Jim Cunradi at the address listed above. Persons with special needs should leave a massage at the phone number above.

FOR FURTHER INFORMATION CONTACT: Paul Page, Federal Transit Administration, Office of Planning and Program Management, Phone: 415-744-2734, Fax: 415-744-2726 or Jim Cunradi, Alameda Contra Costa Transit District, at 510-891-4841 or (e-mail) jcunradi@actransit.org. Additional information on the East Bay BRT Project can also be found on the AC Transit Web site at: http://ww.actransit.org/ (home page) or http://www.actransit.org/onthehorizon/mis.wu (BRT project).

SUPPLEMENTARY INFORMATION:

I. Project Background

The proposed project would be located in heavily urbanized areas of three adjacent East Bay cities that are major transit trip generators for AC Transit's fixed-route bus service: Berkeley on the north, Oakland, and San Leandro on the south. Over a two-year period from 1999 to 2001, AC Transit conducted a Major Investment Study (MIS) to examine the feasibility of providing new or improved transit service in an approximately 18-mile corridor connecting the downtown areas of each of these cities and nearby activity centers. The corridor is home to 320,000 people and includes some of the densest residential neighborhoods in the San Francisco Bay Area, often exceeding 25,000 persons per square mile. Major employment centers include downtown Oakland (70,000 employees), the University of California, Berkeley (19,000 employees and 31,000 students), and central Berkeley (13,000 employees). Buses in this corridor currently carry approximately 40,000 riders on the average weekday—nearly 20 percent of AC Transit's total weekday ridership. Heavy passenger loads and worsening traffic conditions have eroded schedule reliability, reduced travel speeds, and increased operating costs.

The MIS evaluated various alignments for transit improvements and a range of transit technologies and obtained public and agency input through an extensive outreach effort. In August 2001, the AC Transit Board of Directors adopted BRT as the preferred modal technology to be implemented along an alignment centered on the arterials of Telegraph Avenue in the north and International Boulevard/E. 14th Street in the south. The board recommended that the East Bay BRT Project and related improvements be studied in more detail with respect to potential environmental effects, engineering design requirements, and preferred operating strategies. The MIS process and findings were documented in several reports, currently available at AC Transit to interested parties. The proposed East Bay BRT Project was also adopted as part of the San Francisco Bay Area's financially constrained 2001 Regional Transportation Plan (adopted in 2001 with an amendment pending to include a strategy to increase transit ridership). The preparation of an EIS/EIR, accompanied by additional engineering design, marks the next phase for implementation of the proposed East Bay BRT Project.

II. Purpose and Need

The primary objectives of the East Bay BRT Project are as follows:

• Improve transit in high ridership areas. The study corridor includes some of AC Transit's most heavily used bus routes and some of the highest employment and residential densities in AC Transit's service area. Bus routes frequently operate with standing loads during both peak and off-peak periods. This occurs despite six-minute service frequencies and the use of the largest buses in AC Transit's fleet.

• Improve the speed and reliability of bus transit. The average speed of buses in the AC Transit service area has declined at a rate of 1 percent per year for the last two decades. In the study corridor it takes 100 minutes to travel the 18 miles from Berkeley to San Leandro. Frequent stops and starts and slowed, sometimes uneven, operations in congested conditions increase the wear and tear on buses and also fuel consumption. Improving average bus speeds and reducing stops would lead to more efficient operations and allow AC Transit to serve more passengers at a lower cost per passenger.

• Better serve major travel markets. The East Bay BRT would improve access to important employment and educational centers. A large travel market, projected to be 115,000 daily trips in 2020, could be better served by a new AC Transit corridor service. Investment in transit facilities and equipment would help transit to capture a larger share of this market, thereby improving the efficiency of the local roadway network and reducing the need for parking.

• Reduce auto use and congestion. The East Bay BRT is forecast to substantially increase transit use in the study corridor. A mode shift from non-transit to transit would reduce, or at least slow the growth of, auto traffic in an increasingly congested area. Greater transit and relatively less auto travel would result in reduced vehicular air emissions and improvement in air quality as well as transportation energy savings. This would improve the livability of existing communities.

• Contribute to transit-oriented development. Building upon strong existing transit-supportive land use patterns, the cities of Berkeley, Oakland, and San Leandro are attempting to redevelop many areas to encourage even greater use of transit and non-auto modes. The East Bay BRT is intended to catalyze redevelopment efforts along Telegraph Avenue, International Boulevard/E. 14th Street, and in each of the downtowns. The project would provide nodes for concentrations of jobs, services, and residences and a high level of access for individuals traveling to and from these locations.

• Improve mobility of low income, ethnic and transit dependent populations. The proportion of non-white residents in the study corridor is 50 percent greater than in the AC Transit District overall. The proportion of persons living below the poverty level is twice that of the District. Low income is a strong indicator of transit dependency. Transit investment in the corridor would contribute to improved mobility for residents and better access to jobs.

III. Alternatives

Alternatives to be reviewed in the EIS/EIR include a No-Project Alternative; the East Bay BRT Alternative, with any alignment variations that are recommended for detailed evaluation; and any other reasonable alternatives that emerge from the scoping process. The No-Project Alternative assumes a 2025 condition of programmed land use; transit capital and service improvements that are programmed or planned to be implemented by AC Transit and other transit providers in the study area (e.g., the Bay Area Rapid Transit District, or BART, a regional rail service provider); and other transportation system improvements such roadway expansions or upgrades.

The East Bay BRT Alternative would include dedicated transit lanes within existing urban arterials, where practicable; sheltered, low-platform passenger stations with automated bus arrival passenger information signs, lighting, and fare ticketing machines; off-vehicle self-service fare vending and on-board proof-of-payment verification; and transit traffic signal priority to reduce bus delays at signalized intersections, among other features. AC Transit is procuring modern low-floor high-capacity vehicles that would be assigned to the BRT service. Passenger stations would be spaced on average every one-third to one-half mile. BRT transitway and stations improvements would be made entirely within existing public rights-of-way whenever possible; BRT transitway improvements and bus operations outside of existing public-rights of way are not anticipated with the possible exception of required expansion of existing bus storage and maintenance facilities.

IV. Probable Effects

FTA and AC Transit will evaluate the transportation, environmental, social, and economic impacts of the alternatives. The Build Alternative is expected to increase bus transit ridership, improve mobility for area residents, many of whom are transit dependent, and enhance access to major employment and activity centers. Environmental impacts are anticipated in the following areas: traffic operations; parking; local access and circulation; visual and aesthetic effects; historic and cultural resources; disturbance of pre-existing hazardous wastes; and temporary construction-phase impacts. Impacts will be evaluated for both the construction period and for the long-term period of operation. Mitigation measures will be identified and evaluated for avoiding and reducing adverse effects.

To ensure the full range of issues related to this proposed action is addressed and all significant issues identified, comments and suggestions are invited from all interested parties. Comments, suggestions, and questions concerning this proposed action and the EIS/EIR should be directed to the contacts listed above.

V. FTA Procedures

In accordance with FTA policy, all federal laws, regulations and executive orders affecting project development, including but not limited to the regulations of the Council on Environmental Quality and FTA implementing NEPA (40 CFR parts 1500-1508 and 23 CFR part 771), the conformity requirements of the Clean Air Act, section 4040 of the Clean Water Act, Executive Orders 11988, 11990 and 12898 regarding floodplains, wetlands, and environmental justice, respectively, the National Historic Preservation Act, the Endangered Species Act, and section 4(f) of the Department of Transportation Act, will be addressed to the maximum extent practicable during the NEPA process. Prior transportation planning studies may be pertinent to establishing the purpose and need for the proposed action and the range of alternatives to be evaluated in detail in the EIS/EIR. The Draft EIS/EIR will be prepared simultaneously with conceptual engineering for the alternatives, including bus stop and alignment options. The Draft EIS/EIR process will address the potential use of federal funds for the proposed action, as well as assessing social, economic, and environmental impacts of the proposed East Bay BRT Project. The East Bay BRT Project will be refined to minimize and mitigate any adverse impacts. After publication, the Draft EIS/EIR will be available for public and agency review and comment, and a public hearing will be held. Based on the Draft EIS/EIR and comments received, AC Transit will select a locally preferred alternative (LPA) for further assessment in the Final EIS/EIR, which will be based on preliminary engineering of the LPA and other remaining alternatives, and AC Transit will apply for FTA approval to initiate Preliminary Engineering of the preferred alternative.

Issued on: January 13, 2004.
Leslie T. Rogers,
Regional Administrator, Region IX, Federal Transit Administration.

[FR Doc. 04-1397 Filed 1-22-04; 8:45 am]

BILLING CODE 4910-57-M